DEPARTMENT OF THE INTERIOR

Bureau of Land Management

[BLM_AK_FRN_MO4500180464; AA-93952]

Alaska Native Claims Selection

AGENCY: Bureau of Land Management, Interior.

ACTION: Notice of decision identifying easements to be reserved to the United States.

SUMMARY: The Bureau of Land Management (BLM) hereby provides constructive notice that it will issue an appealable decision to Sealaska Corporation. The decision identifies easements for reservation to the United States pursuant to sec. 17(b) of the Alaska Native Claims Settlement Act of 1971 (ANCSA).

DATES: Any party claiming a property interest in the lands affected by the decision may appeal the decision in accordance with the requirements of 43 CFR part 4 within the time limits set out in the SUPPLEMENTARY INFORMATION section.

ADDRESSES: You may obtain a copy of the decision from the Bureau of Land Management, Alaska State Office, 222 West Seventh Avenue, #13, Anchorage, AK 99513-7504.

FOR FURTHER INFORMATION CONTACT: Dina L. Torres, BLM Alaska State Office, 907-271-5699, or dtorres@blm.gov. Individuals in the United States who are deaf, deafblind, hard of hearing, or have a speech disability may dial 711 (TTY, TDD, or Tele Braille) to access telecommunications relay services. Individuals outside the United States should use the relay services offered within their country to make international calls to the point of contact in the United States.

SUPPLEMENTARY INFORMATION: As required by 43 CFR 2650.7(d), notice is hereby given that an appealable decision will be issued by the BLM to Sealaska Corporation. The decision identifies easements pursuant to sec. 17(b) of the Alaska Native Claims Settlement Act of 1971 (ANCSA), 43 U.S.C. 1616(b), to be reserved to the United States upon issuance of the confirmatory patent to Sealaska Corporation. On March 6, 2015, Interim Conveyance No. 2416 was issued to Sealaska Corporation pursuant to secs. 14(h)(8) and 22(j) of ANCSA, 43 U.S.C. 1613(h)(8), 1621(j), and sec. 3002 of the Carl Levin and Howard P. “Buck” McKeon National Defense Authorization Act for Fiscal Year 2015, enacted December 19, 2014, Public Law No. 113-291, for lands selected under sec. 14(h)(8) of ANCSA and depicted on the maps defined in Sec. 3002(a)(1) of Public Law 113-291. A copy of the maps can be found in BLM case file AA-93952 and at the Juneau Regional Office of the United States Forest Service. Section 3002(c)(1) of the Carl Levin and Howard P. “Buck” McKeon National Defense Authorization Act for Fiscal Year 2015, authorized the Secretary of the Interior to identify and reserve, by two years after the date of enactment, or as soon as practical, any easements under sec. 17(b) of ANCSA that could have been reserved upon issuance of the interim conveyance to Sealaska Corporation.

The BLM will also publish notice of the decision once a week for four consecutive weeks in the “Juneau Empire” newspaper.

Any party claiming a property interest in the lands affected by the decision may appeal the decision in accordance with the requirements of 43 CFR part 4 within the following time limits:

1. Unknown parties, parties unable to be located after reasonable efforts have been expended to locate, parties who fail or refuse to sign their return receipt, and parties who receive a copy of the decision by regular mail, which is not certified, return receipt requested, shall have until October 7, 2024 to file an appeal.

2. Parties receiving service of the decision by certified mail shall have 30 days from the date of receipt to file an appeal.

Parties who do not file an appeal in accordance with the requirements of 43 CFR part 4 shall be deemed to have waived their rights. Notices of appeal transmitted by facsimile will not be accepted as timely filed.

Dina L. Torres,
Management and Program Analyst, Division of Lands and Cadastral Survey.

[FR Doc. 2024-20048 Filed 9-5-24; 8:45 am]

BILLING CODE 4331-10-P